DEPARTMENT OF HEALTH AND HUMAN SERVICES

Health Resources and Services Administration

Agency Information Collection Activities: Proposed Collection: Public Comment Request; Telehealth Resource Center Performance Measurement Tool, OMB No. 0915-0361—Extension

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than March 14, 2022.

ADDRESSES: Submit your comments to paperwork@hrsa.gov or by mail to the HRSA Information Collection Clearance Officer, Room 14N136B, 5600 Fishers Lane, Rockville, MD 20857.

FOR FURTHER INFORMATION CONTACT: To request more information on the proposed project or to obtain a copy of the data collection plans and draft instruments, email paperwork@hrsa.gov or call Samantha Miller, the acting HRSA Information Collection Clearance Officer at (301) 443-9094.

SUPPLEMENTARY INFORMATION: When submitting comments or requesting information, please include the information collection request title for reference.

Information Collection Request Title: Telehealth Resource Center Performance Measurement Tool OMB No. 0915-0361—Extension

Abstract: HRSA requests an extension of their Telehealth Resource Center Performance Measurement Tool. The Telehealth Resource Centers (TRC) deliver telehealth technical assistance. There are two types of HRSA TRC programs:

• Two National Telehealth Resource Center Programs focus on policy and technology.

• 12 Regional Telehealth Resource Center Programs host activities and provide resources to rural and underserved areas.

The HRSA Telehealth Resource Centers:

• Provide training and support

• Publicize information and research findings

• Support collaboration and partnerships

• Promote effective partnerships

• Promote the use of telehealth by providing health care information and education to the public and medical specialists.

The TRCs share expertise through individual consults, training, webinars, conference presentations, and the web.

Need and Proposed Use of the Information: In order to evaluate existing programs, data are submitted to HRSA's Office for the Advancement of Telehealth (OAT) through HRSA's Performance Improvement Management System (PIMS). The data are used to measure the effectiveness of the technical assistance (TA). There is one data reporting period each year; during these reporting periods, data are reported for the previous twelve months of activity. Programs have approximately six weeks to enter their data into the PIMS system during each annual reporting period.

The instrument was developed with the following four goals in mind:

1. Improving access to needed services,

2. Reducing rural and underserved population practitioner isolation,

3. Improving health system productivity and efficiency, and

4. Improving patient outcomes.

The TRCs currently report on existing performance data elements using PIMS. The performance measures are designed to assess how the TRC program is meeting its goals to:

• Expand the availability of telehealth services in underserved communities;

• Improve the quality, efficiency, and effectiveness of telehealth services;

• Promote knowledge exchange and dissemination about efficient and effective telehealth practices and technology; and

• Establish sustainable TA centers providing quality, unbiased TA for the development and expansion of effective and efficient telehealth services in underserved communities.

Additionally, the PIMS tool allows OAT to:

• Determine the value added from the TRC Cooperative Agreement;

• Justify budget requests;

• Collect uniform, consistent data which enables OAT to monitor programs;

• Provide guidance to grantees on important indicators to track over time for their own internal program management;

• Measure performance relative to the mission of OAT/HRSA as well as individual goals and objectives of the program;

• Identify topics of interest for future special studies; and

• Identify changes in health care needs within rural and underserved communities, allowing programs to shift focus in order to meet those needs.

Likely Respondents: The likely respondents will be telehealth associations, telehealth providers, rural and underserved health providers, clinicians that deliver services via telehealth, technical assistance providers, research organizations and academic medical centers.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Telehealth Resource Center Performance Measurement Tool | 14 | 42 | 588 | 0.07 | 41
| 14 |  | 588 |  | 41

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2022-00328 Filed 1-10-22; 8:45 am]

BILLING CODE 4165-15-P